DEPARTMENT OF JUSTICE

[OMB Number 1121-0064]

Agency Information Collection Activities; Proposed eCollection eComments Requested; Extension and Minor Revision of Existing Collection

AGENCY: Bureau of Justice Statistics, Department of Justice.

ACTION: Annual Parole Survey, Annual Probation Survey, and Annual Probation Survey (Short Form); 30-day Notice.

SUMMARY: The Department of Justice (DOJ), Office of Justice Programs, will be submitting the following information collection to the Office of Management and Budget (OMB) for review and approval in accordance with the Paperwork Reduction Act of 1995. The proposed information collection was previously published in the Federal Register Volume 79, Number 60, pages 17775-17576, on March 28, 2014, allowing a 60-day comment period. Following publication of the 60-day notice, the Bureau of Justice Statistics received and responded to one request for a copy of the proposed information collection instrument and instructions. No other comments were received.

DATES: Comments are encouraged and will be accepted for an additional 30 days until July 3, 2014.

FOR FURTHER INFORMATION CONTACT: Written comments and/or suggestions regarding the items contained in this notice, especially the estimated public burden or associated response time, should be directed to OIRA_submission@omb.eop.gov.

SUPPLEMENTARY INFORMATION: This process is conducted in accordance with 5 CFR 1320.10. Request written comments and suggestions from the public and affected agencies concerning the proposed collection of information are encouraged. Your comments should address one or more of the following four points:

—Evaluate whether the collection of information is necessary for the proper performance of the functions of the agency, including whether the information will have practical utility;

—Evaluate the accuracy of the agency's estimate of the burden of the collection of information, including the validity of the methodology and assumptions used;

—Enhance the quality, utility and clarity of the information to be collected; and

—Minimize the burden of the collection of information on those who are to respond, including through the use of appropriate automated, electronic, mechanical, or other technological collection techniques or other forms of information technology, e.g. permitting electronic submission of responses.

Overview of This Information Collection

(1) Type of Information Collection: Extension and minor revision of currently approved collection.

(2) Title of the Form/Collection: Annual Parole Survey, Annual Probation Survey, and Annual Probation Survey (Short Form).

(3) Agency form number: Forms: CJ-7 Annual Parole Survey; CJ-8 Annual Probation Survey; and CJ-8A Annual Probation Survey (Short Form). Corrections Statistics Program, Bureau of Justice Statistics, Office of Justice Programs, United States Department of Justice.

(4) Affected public who will be asked to respond, as well as a brief abstract: Primary: state departments of corrections or state probation and parole authorities. Others: The Federal Bureau of Prisons, city and county courts and probation offices for which a central reporting authority does not exist. For the CJ-7 form, the affected public consists of 53 respondents including 51 central reporters (two state respondents in Pennsylvania, and one each from the remaining states), the District of Columbia, and the Federal Bureau of Prisons responsible for keeping records on parolees. For the CJ-8 form, the affected public includes 307 reporters including 51 state respondents (two state respondents in Pennsylvania, and one each from the remaining states), the District of Columbia, the Federal Bureau of Prisons, and 254 from local authorities responsible for keeping records on probationers. For the CJ-8A form, the affected public includes 161 reporters from local authorities responsible for keeping records on probationers. The Annual Parole Survey and Annual Probation surveys have been used since 1977 to collect annual yearend counts and yearly movements of community corrections populations; characteristics of the community supervision population, such as gender, racial composition, ethnicity, conviction status, offense, supervision status; outcomes including the number of revocations and the re-incarceration rate of parolees (i.e., recidivism measures); and the numbers of probationers and parolees who had their location tracked through a Global Positioning System (GPS). Starting with the 2014 Annual Probation Survey, three questions will be added to assess the scope of probation agencies being included by respondents and the levels of court responsible for referring adults to probation supervision. This is an increase of one question compared with the two questions that were proposed in the 60-day notice for this collection. One of the two questions originally proposed was separated into two questions to improve user comprehension and ease of reporting. A pretest with 9 respondents who agreed to a pretest of the three new items demonstrated that the additional items will increase burden by an average of 5 minutes per response for the 2014 Annual Probation Survey as compared with the 2013 Annual Probation Survey. The estimate obtained from the pre-test is less than the estimate of 15 minutes per response for the Annual Probation Survey that appeared in the 60-day notice. The burden estimates in the 30-day notice have been revised accordingly. The Bureau of Justice Statistics uses this information in published reports and for the U.S. Congress, Executive Office of the President, practitioners, researchers, students, the media, and others interested in criminal justice statistics.

(5) An estimate of the total number of respondents and the amount of time needed for an average respondent to respond: 521 respondents each taking an average of 1.49 hours to respond.

(6) An estimate of the total public burden (in hours) associated with the collection: 778 annual burden hours.

If additional information is required contact: Jerri Murray, Department Clearance Officer, United States Department of Justice, Justice Management Division, Policy and Planning Staff, Two Constitution Avenue, 145 N Street NE., Room 3E.405B, Washington, DC 20530.

Dated: May 28, 2014.
Jerri Murray,
Department Clearance Officer for PRA, U.S. Department of Justice.

[FR Doc. 2014-12753 Filed 6-2-14; 8:45 am]

BILLING CODE 4410-18-P